DEPARTMENT OF TRANSPORTATION

Federal Aviation Administration

14 CFR Part 39

[Docket No. FAA-2022-0022; Project Identifier AD-2020-01264-A]

RIN 2120-AA64

Airworthiness Directives; Piper Aircraft, Inc. Airplanes

AGENCY: Federal Aviation Administration (FAA), DOT.

ACTION: Proposed rule; correction.

SUMMARY: The FAA is correcting a notice of proposed rulemaking (NPRM) that published in the Federal Register. The NPRM proposed to issue an airworthiness directive (AD) that would apply to certain Piper Aircraft, Inc., (Piper) Model PA-34-200 airplanes. As published, the docket number referenced throughout is incorrect. This document corrects that error. In all other respects, the original document remains the same; however, for clarity, the FAA is publishing the entire proposed rule in the Federal Register.

DATES: The last date for submitting comments on the NPRM (87 FR 6089, February 3, 2022) remains March 21, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Piper Aircraft, Inc., 2926 Piper Drive, Vero Beach, FL, 32960; phone: (772) 299-2141; website: https://www.piper.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0022; or in person at Docket Operations between 9 a.m. and 5 p.m., Monday through Friday, except Federal holidays. The AD docket contains the NPRM, any comments received, and other information. The street address for Docket Operations is listed above.

FOR FURTHER INFORMATION CONTACT: John Marshall, Aviation Safety Engineer, Atlanta ACO Branch, FAA, 1701 Columbia Avenue, College Park, GA 30337; phone: (404) 474-5524; email: john.r.marshall@faa.gov.

SUPPLEMENTARY INFORMATION:

Comments Invited

The FAA invites you to send any written relevant data, views, or arguments about this proposal. Send your comments to an address listed under ADDRESSES. Include “Docket No. FAA-2022-0022; Project Identifier AD-2020-01264-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about the NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to the NPRM, it is important that you clearly designate the submitted comments as CBI. Please mark each page of your submission containing CBI as “PROPIN.” The FAA will treat such marked submissions as confidential under the FOIA, and they will not be placed in the public docket of the NPRM. Submissions containing CBI should be sent to John Marshall, Aviation Safety Engineer, Atlanta ACO Branch, FAA, 1701 Columbia Avenue, College Park, GA 30337. Any commentary that the FAA receives which is not specifically designated as CBI will be placed in the public docket for this rulemaking.

Background

The FAA issued an NPRM (87 FR 6089, February 3, 2022) that would apply to certain serial-numbered Piper Model PA-34-200 airplanes. The NPRM proposed to require establishing a 500-hour life limit for bolt P/N 693-215 and P/N NAS6207-50D. The NPRM was prompted by the determination that the life limit for these bolts, which are alternate bolts that attach the drag link to the nose gear, were not listed as airworthiness limitations. If the bolts remain in service beyond their fatigue life, failure of the nose landing gear could occur, which could result in loss of airplane control during take-off, landing, or taxi operations.

Need for the Correction

As published, the docket number referenced throughout the NPRM is incorrect. The NPRM incorrectly references “Docket No. FAA-2022-0222” instead of “Docket No. FAA-2022-0022.”

Although no other part of the preamble or regulatory information has been corrected, for clarity, the FAA is publishing the entire proposed rule in the Federal Register.

The comment due date of the NPRM remains March 21, 2022.

Related Service Information

The FAA reviewed Piper Seneca Service Manual, Airworthiness Limitations, 753-817, page 1-1, dated November 30, 2019. This service information specifies the life limits of the P/N 693-215 (standard P/N NAS6207-50D) bolt that attaches the drag link to the nose gear trunnion.

ADs Mandating Airworthiness Limitations

The FAA has previously mandated airworthiness limitations by issuing ADs that require revising the ALS of the existing maintenance manual or instructions for continued airworthiness to incorporate new or revised inspections and life limits. This AD, however, requires incorporating new or revised inspections and life limits into the maintenance records required by 14 CFR 91.417(a)(2) or 135.439(a)(2) for your airplane. The FAA does not intend this as a substantive change. Requiring incorporation of the new ALS requirements into the maintenance records, rather than requiring individual repetitive inspections and replacements, allows operators to record AD compliance once after updating the maintenance records, rather than recording compliance after every inspection and part replacement.

Proposed AD Requirements in This NPRM

This proposed AD would require establishing a 500-hour life limit for bolt P/N 693-215 and P/N NAS6207-50D.

Costs of Compliance

The FAA estimates that this AD, if adopted as proposed, would affect 187 airplanes of U.S. registry.

The FAA estimates the following costs to comply with this proposed AD:

Estimated Costs
Action | Labor cost | Parts cost | Cost per product | Cost on U.S. operators
Revise the Airworthiness Limitations | 1 work-hour × $85 per hour = $85 | Not Applicable | $85 | $15,895

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

Correction

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

Piper Aircraft, Inc.: Docket No. FAA-2022-0022; Project Identifier AD-2020-01264-A.

(a) Comments Due Date

The FAA must receive comments on this airworthiness directive (AD) by April 4, 2022.

(b) Affected ADs

None.

(c) Applicability

This AD applies to Piper Aircraft, Inc., Model PA-34-200 airplanes, serial numbers 34-7250001 through 34-7450220, certificated in any category.

(d) Subject

Joint Aircraft System Component (JASC) Code 3220, Nose/Tail Landing Gear.

(e) Unsafe Condition

This AD was prompted by the determination that the life limit for alternate bolts that attach the drag link to the nose gear were not included as airworthiness limitations. The FAA is issuing this AD to establish a life limit on bolt part numbers 693-215 and NAS6207-50D that attach the drag link to the nose gear trunnion. The unsafe condition, if not addressed, could result in failure of the nose landing gear and lead to loss of airplane control during take-off, landing, or taxi operations.

(f) Compliance

Comply with this AD within the compliance times specified, unless already done.

(g) Actions

(1) Within 90 days after the effective date of this AD, incorporate into the maintenance records required by 14 CFR 91.417(a)(2) or 135.439(a)(2) for your airplane a life limit of 500 hours for bolt part numbers 693-215 and NAS6207-50D.

Note to paragraph (g)(1): Piper Seneca Service Manual, Airworthiness Limitations, 753-817, page 1-1, dated November 30, 2019, contains the life limit in paragraph (g)(1) of this AD.

(2) Thereafter, except as provided in paragraph (h)(1) of this AD, no alternative replacement times may be approved for these bolts.

(h) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD.

(2) Before using any approved AMOC, notify your appropriate principal inspector, or lacking a principal inspector, the manager of the local flight standards district office/certificate holding district office.

(i) Related Information

(1) For more information about this AD, contact John Marshall, Aviation Safety Engineer, Atlanta ACO Branch, FAA, 1701 Columbia Avenue, College Park, GA 30337; phone: (404) 474-5524; email: john.r.marshall@faa.gov.

(2) For service information identified in this AD, contact Piper Aircraft, Inc., 2926 Piper Drive, Vero Beach, FL 32960; phone: (772) 299-2141; website: https://www.piper.com. You may view this referenced service information at the FAA, Airworthiness Products Section, Operational Safety Branch, 901 Locust, Kansas City, MO 64106. For information on the availability of this material at the FAA, call (817) 222-5110.

Issued on February 9, 2022.
Lance T. Gant,
Director, Compliance & Airworthiness Division, Aircraft Certification Service.

[FR Doc. 2022-03213 Filed 2-15-22; 8:45 am]

BILLING CODE 4910-13-P